DEPARTMENT OF TRANSPORTATION

Pipeline and Hazardous Materials Safety Administration

[Docket ID PHMSA-2016-0059]

Pipeline Safety: Public Workshop on Public Awareness

AGENCY: Pipeline and Hazardous Materials Safety Administration (PHMSA), DOT.

ACTION: Notice of public meeting.

SUMMARY: This notice is announcing a one-day public workshop PHMSA is sponsoring on public awareness to bring pipeline safety stakeholders together to review the findings from the joint Public Awareness Program Working Group's (PAPWG) Strengths, Weaknesses, Opportunities, and Threats (SWOT) Report and explore future actions that can be taken to expand public awareness and stakeholder engagement efforts. Various stakeholders, including federal and state regulators, industry, pipeline operators, public, emergency response officials, local public officials, land planners, and excavators, will engage to strengthen pipeline safety public awareness.

DATES: The workshop will be held on July 13, 2016. The workshop will take place from 8:00 a.m. until approximately 5:00 p.m. central time. The workshop will be webcasted live and recorded for pipeline safety stakeholders who are unable to travel to the workshop.

ADDRESSES: The workshop will be held in Chicago, IL. The meeting location in Chicago and the hotel information will be provided on the meeting Web site at https://primis.phmsa.dot.gov/meetings/MtgHome.mtg?mtg=114&nocache=5719 in the near future. The meeting room location will be posted on the day of the workshop.

Registration: Members of the public may attend this free workshop. To help assure that adequate space is provided, all attendees, both in person and by webcast, should register in advance for the workshop at the PHMSA Public Meeting Web site at: https://primis.phmsa.dot.gov/meetings/MtgHome.mtg?mtg=114&nocache=5719. The meeting agenda will be posted and updated on the registration site. On-site registration will also be available for those attending in person starting at 7:00 a.m. central time. All workshop presentations will be available on the meeting registration Web site within 15 days following the workshop.

Comments: Members of the public may submit written comments either before or after the workshop. Comments should reference Docket No. PHMSA-2016-0059. Comments may be submitted in the following ways:

• E-Gov Web site: http://www.regulations.gov. This site allows the public to enter comments on any Federal Register notice issued by any agency. Follow the instructions for submitting comments.

• Fax: 1-202-493-2251.

• Mail: Docket Management System, U.S. Department of Transportation, 1200 New Jersey Avenue SE., Room W12-140, Washington, DC 20590.

Hand Delivery: DOT Docket Management System, Room W12-140, on the ground floor of the West Building, 1200 New Jersey Avenue SE., Washington, DC between 9 a.m. and 5 p.m. eastern time, Monday through Friday, except Federal holidays.

Instructions: Identify the docket number (PHMSA-2016-0059) at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act statement below for additional information.

Privacy Act Statement

Anyone may search the electronic form of all comments received for any of our dockets. You may review DOT's complete Privacy Act Statement in the Federal Register published April 11, 2000, (65 FR 19477) or visit http://dms.dot.gov.

Information on Services for Individuals With Disabilities

For information on facilities or services for individuals with disabilities, or to request special assistance at the meeting, please contact Dr. Christie Murray, Director, Program Development Division, PHMSA, at (202) 366-4996 or by email at Christie.Murray@dot.gov no later than July 8, 2016.

FOR FURTHER INFORMATION CONTACT: Dr. Christie Murray, Director, Program Development Division, PHMSA, at 202-366-4996 or by email at Christie.Murray@dot.gov.

SUPPLEMENTARY INFORMATION: Stakeholders are encouraged to review the PAPWG SWOT Report prior to the workshop. The PAPWG SWOT Report is available at: https://primis.phmsa.dot.gov/comm/publicawareness/docs/PAPWG%20SWOT%20Analysis%20Report-FINAL%2005-16-16.pdf.

The Federal pipeline safety regulations (49 CFR 192.616 and 49 CFR 195.440) require pipeline operators to develop and implement public awareness programs that follow the guidance provided by the API RP 1162, 1st Edition, “Public Awareness Programs for Pipeline Operators” (incorporated by reference in the pipeline safety regulations 49 CFR 192.616 and 49 CFR 195.440). Pipeline operators are required to implement public awareness programs that provide pipeline safety information to the affected public, emergency response officials, local public officials, and excavators. Implementing and improving public awareness programs allows pipeline stakeholders an opportunity to address pipeline safety concerns, such as third party damages, in a proactive manner.

The PAPWG was a collaborative stakeholder work group comprised of myriad pipeline safety stakeholders. The PAPWG was established in September 2013. The mission of the PAPWG was to review pipeline safety public awareness data and information from various sources, identify relevant topical review areas, perform SWOT analyses of those topical areas, and report out on key findings to support improving public awareness.

Issued in Washington, DC, on June 7, 2016, under the authority delegated in 49 CFR 1.97.
Alan K. Mayberry,
Acting Associate Administrator for Pipeline Safety.

[FR Doc. 2016-13845 Filed 6-9-16; 8:45 am]

BILLING CODE 4910-60-P